DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 8, 2012. Address written comments to Statutory Import Programs Staff, Room 3720, U.S. Department of Commerce, Washington, DC 20230. Applications may be examined between 8:30 a.m. and 5:00 p.m. at the U.S. Department of Commerce in Room 3720.

Docket Number: 12-033. Applicant: UChicago Argonne, LLC, 9700 South Cass Ave., Lemont, IL 60439. Instrument: Low-Temperature Scanning Tunneling Microscope System. Manufacturer: CreaTec, Germany. Intended Use: The instrument will be used to investigate properties of materials and novel phenomena related to nanoscale science. This instrument is specialized for creating artificial nanoscale structures on an atom-by-atom basis using nascent atom manipulation techniques. The instrument will be used to investigate the amount of force required to move one atom on a materials surface while simultaneously measuring local electronic structural changes during atom movement. Requirements for this instrument include: simultaneous measurements of tunneling current and force signals at an atomic scale, STM scanner with q-Plus tuning fork type AFM set-up, single atom and single molecule manipulation capabilities, single atom/molecule tunneling spectroscopy, ultrahigh vacuum compatibility, bath cryostat with LHe hold time greater than 72 hours and a LN2 hold time greater than 72 hours, optical access at low temperature, at least 6 K substrate temperature should be achieved, maximum drift rate at base temperature less than 0.2 nm/h, and a computer software allowing manipulation of individual atoms and molecules. Justification for Duty-Free Entry: There are no instruments of the same general category manufactured in the United States. Application accepted by Commissioner of Customs: June 20, 2012.

Dated: July 12, 2012.
Gregory W. Campbell,
Director of Subsidies Enforcement, Import Administration.

[FR Doc. 2012-17620 Filed 7-18-12; 8:45 am]

BILLING CODE 3510-DS-P